DEPARTMENT OF THE INTERIOR

Fish and Wildlife Service

50 CFR Part 17

Endangered and Threatened Wildlife and Plants: Notice of Finding on a Petition to Include Over 2,500 Foreign Species in the List of Threatened and Endangered Species

AGENCY: Fish and Wildlife Service, Interior.

ACTION: Notice of 90-day petition finding.

SUMMARY: We, the U.S. Fish and Wildlife Service announce a 90-day finding for a petition to list over 2,500 foreign species as threatened and endangered. Under the Endangered Species Act of 1973, as amended (Act). The petitioner did not present substantial scientific or commercial information indicating that the listing of over 2,500 foreign species may be warranted.

DATES: The finding announced in this document was made on August 9, 2000.

ADDRESSES: Data, information, comments or questions concerning this petition should be sent to the Office of Scientific Authority, U.S. Fish and Wildlife Service, Mail Stop ARLSQ-750, Washington, D.C. 20240. The petition finding, and comments and materials received will be available for public inspection, by appointment, during normal business hours at the above address.

FOR FURTHER INFORMATION CONTACT: Susan Lieberman, at the above address (phone: 703-358-1708; fax: 703-358-2276; e-mail: r9osa@fws.gov.)

SUPPLEMENTARY INFORMATION

Background

Section 4(b)(3)(A) of the Act, requires that we make a finding on whether a petition to list, delist, or reclassify a species presents substantial scientific or commercial information to demonstrate that the petitioned action may be warranted. This finding is based upon all information submitted with and referenced in the petition and all other information available to us at the time the finding is made. To the maximum extent practicable, this finding is to be made within 90 days following receipt of the petition, and promptly published in the Federal Register. If the finding is positive, section 4(b)(3)(B) of the Act requires us to promptly commence a review of the status of the species and to disclose our findings within 12 months.

We have made a 90-day finding on a petition to list over 2,500 foreign species as endangered or threatened under the Act. We received the petition from PEER, Public Employees for Environmental Responsibility, on May 21, 1997. PEER included a copy of the 1996 IUCN Red List of Threatened Animals with the petition as the only supporting documentation to substantiate the petition.

PEER requested that we list all foreign species, subspecies, and distinct vertebrate populations that are classified as Critically Endangered, Endangered, Vulnerable, Conservation Dependent, or Near Threatened in the 1996 IUCN Red List of Threatened Animals as endangered or threatened under ESA. This petition covers approximately 1,000 mammals, 1,000 birds, 200 reptiles, 100 amphibians, and over 500 other fish species currently not listed under the Act.

The 1996 IUCN Red List of Threatened Animals consists of lists of the species that are considered Threatened; of Lower Risk: Conservation Dependent; of Lower Risk: Near Threatened; and Extinct/Extinct in the Wild. The list includes, for each species its scientific name, common name (if known), the range countries, and an IUCN criteria code. The IUCN criteria code value is based on an evaluation of five criteria established by the IUCN. The code provides a general idea of the status of a species, but does not provide specific information. The IUCN criteria do not provide sufficient information to address the five factors that we must consider under the Act. Especially omitted from the IUCN information is an assessment of the threats to the species' survival, such as the likelihood of various factors (such as habitat changes or disease) to effect the survival of the species.

In addition, the list does not provide the references or data on which IUCN bases the code for each species. As stated on page Intro15, individuals, groups of individuals, active Specialist Groups, or other non-government organizations that are knowledgeable about the species assessed the code values. In many cases, one individual may have made the assessment based on limited data or information without peer review. Given the sheer volume of species and subspecies listed, it was not feasible to include how the assessment was made or how much data is available to make the assessment. This book does not provide substantial information to determine if further investigation is warranted.

We agree that there may be species listed in the book that meet the criteria established for listing under the Act, but the information is not available to assess which species would warrant further analysis. That information is also not readily available in our files for the more than 2,500 species involved. In order for us to make a positive 90-day finding, the petitioner must provide enough information to warrant further investigation on each species covered by the petition (50 CFR 424.14(b)) . We are currently evaluating our process for determining which foreign species would most critically warrant listing under the Act.

When evaluating petitions for listing of species under the Act, a “not-substantial information” finding is made when a petitioner does not provide sufficient information on the status and distribution of a petitioned species. We have reviewed the petition and other readily available information and literature in our files.

We find the petition does not present substantial information to indicate that the listed actions may be warranted.

References Cites

1996 IUCN Red List of Threatened Animals

Author: The primary author of this finding is Dr. Susan Lieberman, U.S. Fish and Wildlife Service, Office of Scientific Authority, (see ADDRESSES section).

Authority: The authority for this action is the Endangered Species Act of 1973, as amended (16 U.S.C. 1531 et seq.).

Dated: August 9, 2000.
Jamie Rappaport Clark,
Director, Fish and Wildlife Service.

[FR Doc. 00-20746 Filed 8-15-00; 8:45 am]

BILLING CODE 4310-55-U